DEPARTMENT OF AGRICULTURE

Cooperative State Research, Education, and Extension Service

Revisions to the Guidelines for State Plans of Work for the Agricultural Research and Extension Formula Funds

AGENCY: Cooperative State Research, Education, and Extension Service, USDA.

ACTION: Final notice.

SUMMARY: The Cooperative State Research, Education, and Extension Service (CSREES) is implementing the Revisions to the Guidelines for State Plans of Work for the Agricultural Research and Extension Formula Funds (64 FR 19242-19248). These guidelines prescribe the procedures to be followed by the eligible institutions receiving Federal agricultural research and extension formula funds under the Hatch Act of 1887, as amended (7 U.S.C. 361a et seq.); sections 3(b)(1) and (c) of the Smith-Lever Act of 1914, as amended (7 U.S.C. 343 (b)(1) and (c)); and sections 1444 and 1445 of the National Agricultural Research, Extension, and Teaching Policy Act of 1977, as amended (7 U.S.C. 3221 and 3222). The recipients of these funds are commonly referred to as the 1862 land-grant institutions and 1890 land-grant institutions, including Tuskegee University and West Virginia State College. CSREES is also revising and reinstating a previously approved information collection (OMB No. 0524-0036) associated with these Guidelines.

FOR FURTHER INFORMATION CONTACT: Mr. Bart Hewitt; Program Analyst, Planning and Accountability, Office of the Administrator; Cooperative State Research, Education, and Extension Service; U.S. Department of Agriculture; Washington, DC 20250; at 202-720-5623, 202-720-7714 (fax) or via electronic mail at bhewitt@csrees.usda.gov.

SUPPLEMENTARY INFORMATION: CSREES published a notice and request for comment on the Proposed Revisions to the Guidelines for State Plans of Work for the Agricultural Research and Extension Formula Funds in the Federal Register on August 7, 2003 (68 FR 47012-47015).

Background and Purpose

The Cooperative State Research, Education, and Extension Service (CSREES) is implementing the following revision to the Guidelines for State Plans of Work for the Agricultural Research and Extension Formula Funds which implement the plan-of-work reporting requirements enacted in the Agricultural Research, Extension, and Education Reform Act of 1998 (AREERA), Pub. L. 105-185, by adding Part V, FY 2005-FY 2006 Plan of Work Update. The 1862 and 1890 land-grant institutions are required to submit a Plan of Work Update only for FY 2005 and FY 2006, instead of submitting a new 5-Year Plan of Work for FY 2005-FY 2009, as CSREES needs to incorporate the recommendations from the USDA Office of Inspector General (OIG) Audit No. 13001-3-Te, CSREES Implementation of the Agricultural Research, Extension, and Education Reform Act of 1998 (AREERA). Consequently, once the final audit recommendations are made, CSREES needs time to develop a viable electronic option for compliance with the Government Paperwork Elimination Act (GPEA). Currently, institutions are submitting their reports via e-mail in WordPerfect file format, Microsoft Word file format, or ASCII file format, and the institutions should continue to do so until a viable electronic option is available.

The objective of the USDA OIG Audit is to determine whether CSREES established effective controls to ensure land-grant institutions implemented AREERA provisions in accordance with the law and regulations. The audit began on November 8, 2002, and the report is currently being drafted. CSREES would like to consider the findings and recommendations of that audit in the design of the next 5-year plan of work. Time also is needed for CSREES to consult with its partnering institutions—1862 and 1890 land-grant institutions—in any redesign of the plan-of-work reporting system or extensive revision of the existing Guidelines for the State Plans of Work. This 2-year period will allow for the consideration of the USDA OIG audit findings and recommendations, opportunity to consult with the 1862 and 1890 land-grant institutions on any extensive revisions to the current Guidelines for State Plans of Work, and the development of a viable electronic option in compliance with GPEA.

CSREES also is changing the due date of the Annual Report of Accomplishments and Results from March 1 to April 1. On December 28, 2000 (65 FR 82317), CSREES changed the original due date for the Annual Reports of Accomplishments and Results from December 31 to the following March 1 after consultation with the 1862 and 1890 land-grant institutions. CSREES is now extending the due date for the Annual Report of Accomplishments and Results to April 1, 2004, for FY 2003; April 1, 2005, for FY 2004; April 1, 2006, for FY 2005; and April 1, 2007, for FY 2006.

The Proposed Guidelines were published in the Federal Register as a notice with a 30-day comment period on August 7, 2003, and these Final Guidelines reflect consideration by CSREES of the comments received.

The due date for submission of the FY 2005-FY 2006 Plan of Work Update for the period covering October 1, 2004, through September 2006, is April 1, 2004.

Public Comments and Guideline Changes in Response

In the Notice of the Proposed Guidelines, CSREES invited comments on the Proposed Guidelines as well as comments on (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of collection of information on those who are to respond, including the use of appropriate automated, electronic, mechanical, or other technological collection techniques or other forms of information technology. Thirteen comments were received. All 13 were from deans, directors, administrators, or their representatives of research and extension programs at the 1862 land-grant institutions. Eleven of the 13 commenters made comments on the proposed guidelines. Twelve of the 13 commenters made comments on the proposed collection of information.

The most significant comments which required a change to the guidelines centered around the accuracy of, and the amount of, the burden hours required to complete the FY 2005-FY 2006 Plan of Work Update. Based on these comments, CSREES is making a change to the guidelines to indicate that it will only require a 5- to 10-page FY 2005-FY 2006 Plan of Work Update to allow the institutions to outline any changes and additions made to the FY 2000-FY 2004 5-Year Plan of Work currently in place. The CSREES responses to specific comments are as follows.

Positive Comments

Comment: Six of the 11 comments that focused on the guidelines were positive comments. Four commenters supported the change in submitting the Annual Report from March 1 to April 1 of each year. Two commenters generally approved of all the proposed changes to the guidelines as outlined in the Federal Register. One commenter stated that since the requirements for the proposed 2-year extension are not being changed from the current 5-year plan, the proposal will ensure continuity and will enable research and extension personnel to anticipate and prepare the reports in a consistent manner. The commenter further stated that the time frame is consistent with their next strategic planning cycle for research and extension programs involving broad-based stakeholder input and would not impose a reporting burden.

CSREES Response: CSREES agrees and appreciates the positive feedback where appropriate.

Submitting a FY 2005-FY 2006 Plan of Work Update

Comment: Four commenters stated that amending the FY 2000-FY 2004 Plan of Work is an insufficient alternative for their institutions due to programmatic, procedural, and administrative changes that have occurred and that any resources invested should be used to build a new 5-year plan, rather than to update the current plan.

CSREES Response: CSREES disagrees as it wants to involve the Land-Grant University system that receives the Federal formula funds in any changes to the next 5-Year Plan of Work. The Agency also believes that the discussion with the system cannot begin until a final report is issued on the Office of Inspector General Audit No. 13001-3-Te, CSREES Implementation of the Agricultural Research, Extension, and Education Reform Act of 1998 (AREERA). Also, the Agency believes that it needs time, once the final recommendations are made, to develop a viable electronic option for compliance with the Government Paperwork Elimination Act (GPEA). CSREES believes it cannot be ready to implement this system for the next 5-Year Plan of Work until the Summer of 2005. The Land-Grant University system that receives Federal formula funds could then be trained to use the new electronic system with the FY 2007-FY 2011 5-Year Plan of Work due in the spring of 2006.

CSREES Comment: These same four commenters plus one other commenter suggested that the states should be given an automatic 1-year renewal or extension of their current plan, and that a new 5-Year Plan of Work be filed by all states beginning with FY 2006.

CSREES Response: CSREES disagrees with this position as it needs the brief updates to the 5-Year Plan of Work to insure that institutions are considering stakeholder input as required under section 102(c) of AREERA and that program objectives have been revised and developed to address the critical agricultural issues in the state. In addition, CSREES needs to insure that all the requirements of AREERA sections 103(e), 105, 202, 204, and 225 continue to be met by the institutions.

Due Date

Comment: Only one commenter thought that they were not in a position to submit the Plan of Work Update simultaneously with the Annual Report and suggested that the Plan of Work Update be submitted on July 1, 2004, instead of April 1, 2004.

CSREES Response: CSREES needs to receive the FY 2005-FY 2006 Plan of Work Update earlier than July 1 in order to thoroughly review any changes an institution may make to their original 5-Year Plan of Work and approve them prior to October 1, 2004, in order to guarantee the timely release of first quarter FY 2005 formula funds. On a case-by-case basis, CSREES has extended the reporting due date for an individual institution in the past and will continue to consider a submission extension in this same manner.

Whether the Proposed Collection of Information is Necessary for the Proper Performance of the Functions of the Agency, Including Whether the Information Will Have Practical Utility

Comment: One commenter assumes the information is useful to the agency for coordination of national initiatives and planning and reporting of these initiatives at national and state levels.

CSREES Response: CSREES agrees and appreciates positive feedback where appropriate.

Comment: One commenter states that extending the Plan of Work and asking for accountability against the same is appropriate, but questions the merit review process as an unnecessary use of time and duplication of effort, given the ongoing level of review most programs are continually involved in with stakeholders, clients, and external department and college reviews.

CSREES Response: CSREES disagrees but recognizes the burden that this additional accountability requirement places on the institutions. However, the merit review process is an integral part of AREERA; it pertains to the Plan of Work and must be included in order to receive funds. Section 103(e)(1) of AREERA states that “1862 AND 1890 INSTITUTIONS.—Effective October 1, 1999, to be eligible to obtain agricultural research or extension funds from the Secretary for an activity, each 1862 Institution and 1890 Institution shall—(A) establish a process for merit review of the activity; and (B) review the activity in accordance with the process.”

Comment: Another commenter assumes that well-crafted plans of work provide a clear vision of goals and objectives of each state's programs, and therefore these documents are useful to the agency.

CSREES Response: CSREES agrees and appreciates positive feedback where appropriate.

The Accuracy of the Agency's Estimate of the Burden of the Proposed Collection of Information

Comment: Four commenters thought the estimate of time required was accurate or reasonable. Seven commenters thought the estimate of time required was significantly underestimated.

CSREES Response: CSREES agrees in part with the seven commenters on the estimate of time. CSREES agrees that the estimate of burden for an entirely new 5-Year Plan of Work will take considerably more effort, and thus, burden, than was estimated here. However, CSREES based its estimate of time required for submitting a 2-Year Plan of Work Update of a representative sample of all four regions and an assumption that an amendment to the current 5-Year Plan of Work would take about 10 percent as much effort as a newly developed 5-Year Plan of Work upon which the original survey was based. The 10 percent estimated burden for a Plan of Work Update was approved in the original Plan of Work guidelines published in 1999. In fact, representatives of CSREES administration discussed this issue of perceived burden with the State Agricultural Experiment Station directors on September 24, 2003, in Dearborn, Michigan, after most of these comments had been received by CSREES. Once CSREES explained what is expected in the FY 2005-FY 2006 Plan of Work Update, the directors understood that the burden will be minimal. CSREES recognizes that for some states that have many changes to make in their 5-Year Plan of Work, it may take more time than estimated, and for other states that have little or no changes to make in the 5-Year Plan of Work, it will take less time than estimated. The intent of CSREES is to decrease burden to the plan-of-work respondents, and to extend the current plan-of-work cycle to include FY 2005 and FY 2006. To make what is expected in the FY 2005-FY 2006 Plan of Work Update more clear, CSREES is making a change to the guidelines to indicate that it will only require a 5-to 10-page FY 2005-2006 Plan of Work Update which will allow the institutions to outline any changes and additions made to the FY 2000-FY 2004 5-Year Plan of Work currently in place. Any detailed information that the institution wants to address can be done in the Annual Report. However, we also will allow the institutions the option to submit a wholly new FY 2005-FY 2006 Plan of Work Update if it feels that it is in their best interest to do so.

Ways to Enhance the Quality, Utility, and Clarity of the Information to be Collected

Comments received focused on aggregation and a standardized system for reporting.

Comment: One commenter stated he looks forward to a more standardized and aggregated system in the future. Another commenter wants the Agency to work to clarify a list of outcomes/impacts that states could choose among to report against so data can be aggregated at the regional and national level.

CSREES Response: CSREES agrees as it intends to have a more standardized system in the future and will consider working to clarify a list of outcomes/impacts as it begins to develop the guidelines for the next 5-Year Plan of Work which will begin with the FY 2007.

Comment: One commenter suggested that the requirement to limit the reporting to programs supported by Federal dollars is the biggest hindrance to quality, causes an unnecessary burden on fiscal officers, and limits the results for which USDA might take credit. The commenter also suggested that an easy fix would be to allow states to report about programs that fit, regardless of funding source.

CSREES Response: While CSREES agrees with this in principle, AREERA only requires that programs funded with formula funds be reported in the Plan of Work and Annual Report of Accomplishments and Results. Thus, CSREES can only require that institutions that receive Federal formula funds to report on programs that use Federal formula funds through the plan-of-work process.

CSREES Comment: Another commenter questions the necessity of reporting on the manner in which research and extension activities are funded other than through Federal formula funds. This commenter also asks if AREERA only requires plans of work for the Federal formula funds distributed by CSREES, why are we burdening them to account for other funds.

Response: CSREES disagrees as this information is required under section 202 of AREERA which amended both the Smith-Lever and Hatch Acts and states as one of its “Requirements Related to the Plan of Work”: “(4) The manner in which research and extension, including research and extension activities funded other than through formula funds, will cooperate to address the critical issues in the State, including the activities to be carried out separately, the activities to be carried out sequentially, and the activities to be carried out jointly.”

Comment: Another commenter stated that examples and materials posted on the CSREES Web site are quite helpful, and that feedback regarding planning and reporting is also helpful in moving planning and reporting toward a more outcomes-based effort. The commenter further stated that electronic platforms will further help users to assess component information more readily.

CSREES Response: CSREES agrees and appreciates positive feedback where appropriate and will work on a more sophisticated electronic platform for the next 5-Year Plan of Work which is due to begin with FY 2007.

Ways to Minimize the Burden of Collection of Information on Those Who Are to Respond, Including the Use of Appropriate Automated, Electronic, Mechanical, or Other Technological Collection Techniques or Other Forms of Information Technology

Comment: Seven commenters supported the Agency notion to develop one standardized holistic electronic planning and reporting system for all its information needs, which the agency has named “One-Solution.” However, one commenter stated that the current method of reporting works well for their State.

CSREES Response: Although the current free text format may work well for a few States, CSREES appreciates the support of the agency notion to develop a standardized holistic electronic planning and reporting system for all of its information needs. CSREES is committed to developing a more sophisticated holistic electronic system to reduce reporting burden.

Paperwork Reduction Act

In accordance with the Office of Management and Budget (OMB) regulations (5 CFR part 1320) that implement the Paperwork Reduction Act of 1995 (44 U.S.C. chapter 35), the information collection and recordkeeping requirements imposed by the implementation of these Final Guidelines will be submitted to OMB for approval. Those requirements will not become effective prior to OMB approval. The eligible institutions will be notified upon this approval.

The public reporting burden for this collection of information contained in these guidelines is estimated at 336.9 hours per response for the FY 2005-FY 2006 Plan of Work Update and 1,356.3 hours per response for the Annual Report of Accomplishments and Results. This includes the time for reviewing instructions, searching existing data sources, gathering and maintaining the data needed, and completing and reviewing the collection of information. These guidelines have no additional impact on any existing data collection burden.

Pursuant to the plan of work requirements enacted in the Agricultural Research, Extension, and Education Reform Act of 1998, the Cooperative State Research, Education, and Extension Service hereby adds Part V, FY 2005-FY 2006 Plan of Work Update, to the Guidelines for State Plans of Work for Agricultural Research and Extension Formula Funds as follows:

Guidelines for State Plans of Work for Agricultural Research and Extension Formula Funds

Table of Contents

V. Submission of the FY 2005-2006 Plan of Work Update

A. General

1. Planning Option

2. Period Covered

3. Projected Resources

4. Submission and Due Date

5. Certification

B. FY 2005-2006 Plan of Work Update Evaluation by CSREES

1. Schedule

2. Review Criteria

V. Submission of the FY 2005-FY 2006 Plan of Work Update

A. General

1. Planning Option

The FY 2005-FY 2006 Plan of Work Update is a prospective plan that extends coverage of the original 5-Year Plan of Work (i.e., FY 2000-FY 2004) to include FY 2005-FY 2006. CSREES requests, and will only require, this Plan of Work Update be limited to 5-10 pages and outline the changes and additions made to the original FY 2000-FY 2004 5-year Plan of Work. However, CSREES will also allow the institution the option to submit a wholly new FY 2005-2006 Plan of Work Update if they feel it is in their best interest to do so. The FY 2005-2006 Plan of Work Update should be prepared for an institution's individual functions (i.e., research or extension activities), for an individual institution (including the planning of research and extension activities), or for state-wide activities (a 5-year research and/or extension plan of work for all the eligible institutions in a State), as they were submitted in the original 5-Year Plan of Work that was due on July 15, 1999. Each FY 2005-FY 2006 Plan of Work Update must reflect the content of the program(s) funded by Federal agricultural research and extension formula funds and the required matching funds. This FY 2005-FY 2006 Plan of Work Update must continue to describe not only how the program(s) address critical short-term, intermediate, and long-term agricultural issues in a State, but how it relates to and is part of the five broad national goals as outlined above and originally described in the previous 5-year plan of work, thus expanding upon and extending the existing plan with new or continuing efforts.

The FY 2005-FY 2006 Plan of Work Update should continue to be based on the five original national goals established in the FY 2000-FY 2004 5-year Plan of Work as described above.

2. Period Covered

The FY 2005-FY 2006 Plan of Work Update will extend the current 5-Year Plan of Work that covered the period from October 1, 1999, through September 30, 2004, to include the period from October 1, 2004, through September 30, 2006.

3. Projected Resources

The resources that are allocated for various planned programs in the FY 2005-2006 Plan of Work Update, in terms of human and fiscal measures, should be included and projected to include the sixth and seventh years. The baseline for the institution's or State's initial plan (for the two years) should be the Federal agricultural research and extension formula funds for FY 1999 and the required level (i.e., percentage) of matching funds for FY 2005 and FY 2006.

4. Submission and Due Date

The FY 2005-FY 2006 Plan of Work Update must be submitted by April 1, 2004, to the Planning and Accountability Unit, Office of the Administrator of the Cooperative State Research, Education, and Extension Service; U.S. Department of Agriculture. It is preferred that these FY 2005-FY 2006 Plan of Work Updates be submitted electronically to bhewitt@csrees.usda.gov in either WordPerfect file format, Microsoft Word file format, or ASCII file format. It also is requested that the FY 2003 Annual Report of Accomplishments and Results be submitted with the FY 2005-FY 2006 Plan of Work Update in order to facilitate a more efficient and comprehensive review for both CSREES and the land-grant institutions.

5. Certification

The FY 2005-FY 2006 Plan of Work Updates must be signed by the 1862 Extension Director, 1862 Research Director, 1890 Extension Administrator, and/or 1890 Research Director, depending on the planning option chosen.

B. FY 2005-2006 Plan of Work Update Evaluation by CSREES

1. Schedule

All FY 2005-FY 2006 Plan of Work Updates will be evaluated by CSREES in conjunction with the review of the FY 2003 Annual Report of Accomplishments and Results. The FY 2005-FY 2006 Plan of Work Update will either be accepted by CSREES without change or returned to the institution, with clear and detailed recommendations for its modification. The submitting institution(s) will be notified by CSREES of its determination within 90 days (review to be completed in 60 days, communications to the institutions allowing a 30-day response) of receipt of the document. Adherence to the Plan of Work schedule by the recipient institution is critical to assuring the timely allocation of funds by CSREES. The FY 2005-FY 2006 Plan of Work Updates accepted by CSREES will be in effect for the period beginning October 1, 2004, through September 30, 2006. CSREES will notify all institutions of a need for a new 5-year plan of work one year prior to the plan's expiration on September 30, 2006.

2. Review Criteria

CSREES will evaluate the FY 2005-FY 2006 Plan of Work Update according to the criteria in these revised guidelines.

Done in Washington, DC, this 30th day of January, 2004.
Colien Hefferan,
Administrator, Cooperative State Research, Education, and Extension Service.

[FR Doc. 04-2786 Filed 2-9-04; 8:45 am]

BILLING CODE 3410-22-P